DEPARTMENT OF THE INTERIOR

Bureau of Land Management

[LLCAD070000 L16100000 DP0000]

Notice of Availability of the Draft Imperial Sand Dunes Recreation Area Management Plan and Draft Environmental Impact Statement and Associated Amendment to the California Desert Conservation Area Plan, CA

AGENCY: Bureau of Land Management, Interior.

ACTION: Notice of availability.

SUMMARY: In accordance with the National Environmental Policy Act of 1969 and the Federal Land Policy and Management Act of 1976, the Bureau of Land Management (BLM) has prepared a Draft Recreation Area Management Plan (RAMP)/Draft Environmental Impact Statement (EIS) for the Imperial Sand Dunes Recreation Area (ISDRA) and associated plan amendment to the California Desert Conservation Area (CDCA) Plan in Imperial County, California and by this notice is announcing the opening of the comment period.

DATES: To ensure that comments will be considered, the BLM must receive written comments on the Draft RAMP/EIS within 90 days following the date the Environmental Protection Agency publishes its notice in the Federal Register. The BLM will announce future meetings or hearings and any other public involvement activities at least 15 days in advance through public notices, media releases, and/or mailings.

ADDRESSES: You may submit comments at the public meetings or by any of the following methods:

• E-mail: caisdrmp@ca.blm.gov.

• Fax: (760) 337-4490.

• Mail: 1661 So. 4th St., El Centro, California 92243.

Copies of the Draft Imperial Sand Dunes RAMP/EIS are available in the El Centro Field Office at the above address and at the BLM California State Office, 2800 Cottage Way, Sacramento, California 95825. Interested persons may also review the Draft Resource Management Plan (RMP)/EIS at the following Web site: http://www.blm.gov/en/fo/elcentro.

FOR FURTHER INFORMATION CONTACT: For further information contact Erin Dreyfuss, Environmental Protection Specialist, telephone (916) 978-4642; BLM California State Office, 2800 Cottage Way, Sacramento, California 95825.

SUPPLEMENTARY INFORMATION: As a result of a court order (U.S. District Court, Northern District of California), dated September 26, 2006, Case No. C-03-2509 SI, the BLM has prepared the Draft RAMP/EIS for the ISDRA and associated plan amendment to the CDCA.

The ISDRA project area encompasses approximately 200,000 acres of lands, approximately 150,000 acres of which are public lands bounded to the west by the Old Coachella Canal, to the east by the Union Pacific Railroad, to the north by Mammoth Wash, and to the south by Interstate 8 and the California/Mexico border. The primary activities in the ISDRA include off-highway vehicle use and camping. The Draft RAMP/EIS has been developed through a collaborative planning process and considers eight alternatives. Issues addressed in the Draft RAMP/EIS include: Recreation; transportation and public access; wildlife and botany; cultural resources and paleontology; renewable energy; water resources; geology and soils; mineral resources; socioeconomics; public health and safety; and visual resources.

The Draft RMP/EIS also considers the designation of two Areas of Critical Environmental Concern (ACEC), Plank Road and East Mesa. The preferred alternative would continue the 298-acre Plank Road ACEC to protect cultural resources and other resources values identified in the Draft RAMP/EIS. The preferred alternative would reduce the East Mesa ACEC from 6,454 acres to 5,799 acres, which overlaps the Planning Area. The East Mesa ACEC would continue to protect biological resources and other resource values identified in the Draft RAMP/EIS. The acreage of this ACEC varies by alternative. The preferred alternative would also remove the North Algodones Dunes ACEC, which encompasses 25,756 acres, in order to remove conflicting management prescriptions between this ACEC and the North Algodones Dunes Wilderness Area. Limitations on use of public lands within the Plank Road ACEC include restrictions on wind and solar energy development, as well as geothermal leasing. Limitations on use of public lands within the East Mesa ACEC include restrictions on wind and solar energy development, as well as geothermal leasing that includes surface occupancy.

Please note that public comments and information submitted including names, street addresses, and e-mail addresses of respondents will be available for public review and disclosure at the above address during regular business hours (8 a.m. to 4 p.m.), Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority: 40 CFR 1506.6, 1506.10, and 43 CFR 1610.2

Vicki L. Wood,
Field Manager.

[FR Doc. 2010-6670 Filed 3-25-10; 8:45 am]

BILLING CODE 4310-40-P